DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Time and Date:

9:00 a.m.-5:45 p.m., July 24, 2013;

9:00 a.m.-12:30 p.m., July 25, 2013.

Place: NIOSH Pittsburgh Office, 626 Cochrans Mill Road, Bldg. 140, Room 101, Pittsburgh, Pennsylvania, 15236 Telephone: (412) 386-5302, Fax: (412) 386-5300.

Status: Open to public, limited only by the space available. The meeting room accommodates approximately 25 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: The meeting will focus on safety and health research projects and outcomes in the following areas: improved dissemination of research results through the use of trade literature; a plan for periodically updating the demographic survey of the mining industry; an analysis of the research needs of the stone, sand and gravel sector; reinventing deep vein mining to improve health and safety; the National Academies of Science self-escape study; the total worker health program; an update on Division of Respiratory Disease Studies research; an update on the 1 mg initiative for reducing coal dust exposures; the use of a helmet cam for reducing dust exposures; an update on improved oxygen supplies for self-escape; an update from the National Personal Protective Technology Laboratory; a presentation on emerging lithium batteries; and findings for improving rock dusting in underground coal mines. Agenda items are subject to change as priorities dictate.

Contact Person for More Information: Jeffery L. Kohler, Ph.D., Designated Federal Officer, MSHRAC, NIOSH, CDC, 626 Cochrans Mill Road, Mailstop P05, Pittsburgh, Pennsylvania 15236, telephone (412) 386-5301, fax (412) 386-5300.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention.

[FR Doc. 2013-16184 Filed 7-5-13; 8:45 am]

BILLING CODE 4163-18-P